DEPARTMENT OF COMMERCE

International Trade Administration

[A-570-196]

Slag Pots From the People's Republic of China: Final Affirmative Determination of Sales at Less Than Fair Value

AGENCY: Enforcement and Compliance, International Trade Administration, Department of Commerce.

SUMMARY: The U.S. Department of Commerce (Commerce) determines that slag pots from the People's Republic of China (China) are being, or are likely to be, sold in the United States at less than fair value (LTFV). The period of investigation is April 1, 2024, through September 30, 2024.

DATES: Applicable August 28, 2025.

FOR FURTHER INFORMATION CONTACT: George McMahon, AD/CVD Operations, Office VI, Enforcement and Compliance, International Trade Administration, U.S. Department of Commerce, 1401 Constitution Avenue NW, Washington, DC 20230; telephone: (202) 482-1167.

SUPPLEMENTARY INFORMATION:

Background

On June 17, 2025, Commerce published its Preliminary Determination in the Federal Register.¹ We invited interested parties to comment on our Preliminary Determination; however, no parties submitted comments. Because no interested parties submitted comments, we have adopted our Preliminary Determination as the final determination. Accordingly, no decision memorandum accompanies this Federal Register notice.

¹ See Slag Pots from the People's Republic of China: Preliminary Affirmative Determination of Sales at Less Than Fair Value, 90 FR 25584 (June 17, 2025) (Preliminary Determination), and accompanying Preliminary Decision Memorandum (PDM).

Scope of the Investigation

The products covered by this investigation are slag pots from China. For a complete description of the scope of this investigation, see the appendix to this notice.

Scope Comments

In the Preliminary Scope Memorandum, we set aside a period of time for parties to raise issues regarding product coverage (i.e., scope) in scope-specific case or other written comments on scope issues.² We received no comments from interested parties on the scope of the investigation as it appeared in the Preliminary Scope Memorandum. Therefore, we made no changes to the scope of the investigation.³

² See Memorandum, “Preliminary Scope Decision Memorandum,” dated March 27, 2025 (Preliminary Scope Memorandum), at 3.

³ Id. at Appendix.

Verification

Because no companies in this investigation demonstrated eligibility for a separate rate, Commerce determined that all companies are part of the China-wide entity; therefore, no verification was conducted.

China-Wide Entity and Use of Adverse Facts Available

Consistent with the Preliminary Determination,⁴ Commerce continues to find, pursuant to sections 776(a) and (b) of the Tariff Act of 1930, as amended (the Act), that the use of facts otherwise available, with adverse inferences, is warranted in determining the dumping rate for the China-wide entity. Thus, in this final determination, as adverse facts available (AFA), we continue to assign a rate of 294.43 percent, which is the highest margin alleged in the Petition,⁵ to the China-wide entity.⁶

⁴ See Preliminary Determination, 90 FR at 25584; see also Preliminary Determination PDM at 6-10.

⁵ See Slag Pots from the People's Republic of China: Initiation of Less-Than-Fair-Value Investigation, 90 FR 8276, 8279 (January 28, 2025) (Initiation Notice); see also Checklist, “Antidumping Duty Investigation Initiation Checklist: Slag Pots from the People's Republic of China,” dated January 21, 2025 (Initiation Checklist) at 7.

⁶ The China-wide entity includes: (1) Chaeng Great Wall Casting Co., Ltd.; (2) Chaugzhou Jinyuan Machinery Equipment Ltd. Co.; (3) China Minmetals Corporation; (4) Dawang Metals Co. Ltd.; (5) Dehua Protech Innovation Co., Ltd.; (6) Liaoning Mineral and Metallurgy Group Co. Ltd.; (7) MCC Baosteel Technology Services Co., Ltd.; (8) Shantou Huaxing Metallurgical Equipment Co. Ltd.; (9) Shaoguan Germany China Metal Group, Ltd.; (10) Shenyang Minmetal Import & Export Co., Ltd.; and (11) UMECC Beijing Equipment Co., Ltd. See Preliminary Determination, 90 FR at 25584.

Combination Rates

In the Initiation Notice,⁷ Commerce stated that it would calculate producer/exporter combination rates for the respondents that are eligible for a separate rate in this investigation. Policy Bulletin 05.1 describes this practice.⁸ Because no respondent qualified for a separate rate, we did not calculate producer/exporter combination rates for this final determination.

⁷ See Initiation Notice, 90 FR at 8279-80.

⁸ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margin exists:

Producer/exporter | Weighted- average dumping margin (percent) | Cash deposit rate (adjusted for export subsidy offset) (percent)
China-Wide Entity | * 294.43 | 278.81
* Rate is based on facts available with adverse inferences.

Disclosure

Normally, Commerce discloses to interested parties the calculations performed in connection with a final determination within five days of any public announcement or, if there is no public announcement, within five days of the date of publication of this notice in accordance with 19 CFR 351.224(b). However, because Commerce applied AFA to the China-wide entity in this investigation, in accordance with section 776 of the Act, and the applied AFA rate is based solely on the petition, there are no calculations to disclose.

Continuation of Suspension of Liquidation

In accordance with section 735(c)(1)(B) of the Act, Commerce will instruct U.S. Customs and Border Protection (CBP) to continue to suspend liquidation of all appropriate entries of subject merchandise, as described in the appendix to this notice, which were entered, or withdrawn from warehouse, for consumption on or after June 17, 2025, which is the date of publication of the affirmative Preliminary Determination in the Federal Register, at the cash deposit rate indicated above.

Pursuant to section 735(c)(1)(B)(ii) of the Act and 19 CFR 351.210(d), upon the publication of this notice, Commerce will instruct CBP to require a cash deposit for estimated antidumping duties for appropriate entries. Commerce will instruct CBP to require the following cash deposits of estimated antidumping duties for all appropriate entries: (1) for all Chinese exporters of subject merchandise, the cash deposit will be equal to the estimated dumping margin established for the China-wide entity; and (2) for all third-country exporters of merchandise under consideration, the cash deposit rate is also the cash deposit rate applicable to the China-wide entity. These suspension of liquidation instructions will remain in effect until further notice.

To determine the cash deposit rate, Commerce normally adjusts the estimated weighted-average dumping margin by the amount of domestic subsidy pass-through and export subsidies determined in a companion countervailing duty (CVD) proceeding when CVD provisional measures are in effect. Accordingly, where Commerce has made a preliminary affirmative determination for domestic subsidy pass-through or export subsidies, Commerce has offset the calculated estimated weighted-average dumping margin by the appropriate export subsidy rate. Any such adjusted cash deposit rate may be found in the “Final Determination” section above. However, the suspension of liquidation of provisional measures in the companion CVD investigation has been discontinued.⁹ Therefore, we are not instructing CBP to collect cash deposits based on the adjusted estimated weighted-average dumping margin for export subsidies at this time. If the U.S. International Trade Commission (ITC) makes a final affirmative determination of injury due to both dumping and subsidies, then the cash deposit rate will be revised effective on the date of publication of the ITC's final affirmative determination in the Federal Register to be the weighted-average dumping margin adjusted for export subsidies.

⁹ See Slag Pots from the People's Republic of China: Preliminary Affirmative Countervailing Duty Determination, 90 FR 14625 (April 3, 2025); see also section 703(d) of the Act, which states that the provisional measures may not be in effect for more than four months, which in the companion CVD case is 120 days after the publication of the preliminary determination, or July 31, 2025 (i.e., last day provisional measures are in effect).

U.S. International Trade Commission Notification

In accordance with section 735(d) of the Act, we intend to notify the ITC of our final affirmative determination of sales at LTFV. Because the final determination in this proceeding is affirmative, in accordance with section 735(b)(2) of the Act, the ITC will make its final determination as to whether the domestic industry in the United States is materially injured, or threatened with material injury, by reason of imports of slag pots from China no later than 45 days after this final determination. In addition, we are making available to the ITC all nonprivileged and nonproprietary information related to this investigation. We will allow the ITC access to all privileged and business proprietary information in our files, provided the ITC confirms that it will not disclose such information, either publicly or under an administrative protective order (APO), without the written consent of the Assistant Secretary for Enforcement and Compliance.

If the ITC determines that material injury or threat of material injury does not exist, the proceeding will be terminated and all cash deposits will be refunded or canceled, and suspension of liquidation will be lifted. If the ITC determines that such injury does exist, Commerce will issue an AD duty order directing CBP to assess, upon further instruction by Commerce, AD duties on all imports of the subject merchandise that are entered, or withdrawn from warehouse, for consumption on or after the effective date of the suspension of liquidation, as discussed above in the “Continuation of Suspension of Liquidation” section.

Administrative Protective Order

In the event that the ITC issues a final negative injury determination, this notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

We are issuing and publishing this final determination in accordance with sections 735(d) and 777(i)(1) of the Act, and 19 CFR 351.210(c).

Dated: August 25, 2025.
Abdelali Elouaradia,
Deputy Assistant Secretary for Enforcement and Compliance.

Appendix

Scope of the Investigation

The merchandise covered by the investigation is slag pots with a nominal capacity of 65 cubic feet to 1200 cubic feet regardless of shape, form, or finish.

Slag pots are load bearing devices typically formed as a curved shell or bowl-shaped container. Slag pots are metallurgical goods typically produced either using a casting process or a fabrication process (e.g., welding) and may include a ceramic refractory coating, heat treatment or various finishes in order to handle high temperature slag. Slag pots may contain integral features or attachments including (1) legs (or a stand) and (2) pivotal mounting hooks or brackets. Legs (or a stand) are a fixed or detachable support structure which allows the slag pot to be securely positioned upright on a surface when not being lifted or transported and may also keep the slag pot off the ground and allow for air cooling. The pivotal mounting hooks and brackets are specialized attachment points (such as lifting lugs or trunnions) that allow the slag pot to be securely lifted and transported by a crane or lifting device, or that enable the slag pot to swing or rotate while remaining attached to the lifting mechanism. The merchandise covered by this investigation includes all aforementioned attachments of a fully assembled slag pot, regardless of whether shipped assembled or unassembled.

Slag pots are included within the scope whether finished or unfinished, whether imported individually or with other subject or non-subject merchandise, or whether assembled with attachments or unassembled. Finishing includes, but is not limited to, arc washing, welding, grinding, shot blasting, heat treatment, machining, and assembly of various parts.

The country of origin for slag pots whether fully assembled, unfinished or finished, is the country where the slag pot was cast or forged. Subject merchandise includes slag pots that have been further processed or further assembled in a third country. Further processing and further assembly include, but is not limited to, arc washing, welding, grinding, shot blasting, heat treatment, painting, coating, priming, machining, and assembly of attachments.

Slag pots subject to the investigation are specified within the Harmonized Tariff Schedule of the United States (HTSUS) under subheadings 7309.00.0090 and 8454.20.0080. The slag pot attachments covered by the scope of this investigation may enter under HTSUS subheadings 7316.00.0000, 7325.10.0080, 7325.99.1000, 7325.99.5000, and 7326.19.0080. The HTSUS subheading is provided for convenience and customs purposes only. The written description of the scope of the investigation is dispositive.

[FR Doc. 2025-16552 Filed 8-27-25; 8:45 am]

BILLING CODE 3510-DS-P